NUCLEAR REGULATORY COMMISSION

[NRC-2018-0145]

Proposed Revisions to Branch Technical Position 5-3: Fracture Toughness Requirements

AGENCY: Nuclear Regulatory Commission.

ACTION: Standard review plan—draft section revision; reopening of comment period.

SUMMARY: On July 13, 2018, the U.S. Nuclear Regulatory Commission (NRC) published a request for public comment on draft NUREG-0800, “Standard Review Plan for the Review of Safety Analysis Reports for Nuclear Power Plants: LWR Edition,” Branch Technical Position (BTP) 5-3, “Fracture Toughness Requirements.” The public comment period was originally scheduled to close on September 11, 2018. The NRC has decided to reopen the public comment period on this document for 30 days to allow more time for members of the public to review additional revisions that the NRC made to BTP 5-3 since the draft was issued on July 13, 2018, and to assemble and submit their comments.

DATES: The comment period for the document published on July 13, 2018 (83 FR 32690) has been reopened. Comments must be filed no later than October 22, 2018. Comments received after this date will be considered, if it is practical to do so, but the Commission is able to ensure consideration only for comments received on or before this date.

ADDRESSES: You may submit comments by any of the following methods:

• Federal Rulemaking Website: Go to http://www.regulations.gov and search for Docket ID NRC-2018-0145. Address questions about Docket IDs in Regulations.gov to Jennifer Borges; telephone: 301-287-9127; email: Jennifer.Borges@nrc.gov. For technical questions, contact the individual listed in the FOR FURTHER INFORMATION CONTACT section of this document.

• Mail comments to: May Ma, Office of Administration, Mail Stop: TWFN 7 A60M, U.S. Nuclear Regulatory Commission, Washington, DC 20555-0001.

For additional direction on obtaining information and submitting comments, see “Obtaining Information and Submitting Comments” in the SUPPLEMENTARY INFORMATION section of this document.

FOR FURTHER INFORMATION CONTACT: Mark D. Notich, Office of New Reactors, telephone: 301-415-3053; email: Mark.Notich@nrc.gov; U.S. Nuclear Regulatory Commission, Washington, DC 20555-0001.

SUPPLEMENTARY INFORMATION:

I. Obtaining Information and Submitting Comments

A. Obtaining Information

Please refer to Docket ID NRC-2018-0145 when contacting the NRC about the availability of information for this action. You may obtain publicly-available information related to this action by any of the following methods:

• Federal Rulemaking Website: Go to http://www.regulations.gov and search for Docket ID NRC-2018-0145.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov.

NRC's PDR: You may examine and purchase copies of public documents at the NRC's PDR, Room O1-F21, One White Flint North, 11555 Rockville Pike, Rockville, Maryland 20852.

B. Submitting Comments

Please include Docket ID NRC-2018-0145 in your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Further Information

On July 13, 2018 (83 FR 32690), the NRC published a request for public comment on draft NUREG-0800, “Standard Review Plan for the Review of Safety Analysis Reports for Nuclear Power Plants: LWR Edition,” BTP 5-3, “Fracture Toughness Requirements,” (ADAMS Accession No. ML18081A184). This section has been developed to assist NRC staff in reviewing applications submitted per the requirements under part 50 of title 10 of the Code of Federal Regulations (10 CFR).

The public comment period was originally closed on September 11, 2018. The NRC has included additional revisions to the text of BTP 5-3 since the section was issued for comment. Accordingly, the NRC has decided to reopen the public comment period on this document to allow more time for members of the public to assemble and submit their comments. The revised text for BTP 5-3 can be found in ML18254A090. The redline/strikeout comparing the current version of BTP 5-3 and the revised version can be found in ML18257A032.

Dated at Rockville, Maryland, this 17th day of September 2018.
For the Nuclear Regulatory Commission.
Jennivine K. Rankin,
Acting Branch Chief, Licensing Branch 3, Division of Licensing, Siting, and Environmental Analysis, Office of New Reactors.

[FR Doc. 2018-20451 Filed 9-19-18; 8:45 am]

BILLING CODE 7590-01-P